DEPARTMENT OF ENERGY

Federal Energy Regulatory Commission

Combined Notice of Filings #2

Take notice that the Commission received the following electric corporate filings:

Docket Numbers: EC15-157-000.

Applicants: Pennsylvania Electric Company, Metropolitan Edison Company, Jersey Central Power & Light Co., FirstEnergy Transmission, LLC, Mid-Atlantic Interstate Transmission, LLC.

Description: Application for Authorization Pursuant to Sections 203(A)(1)(A) and 203(A)(2) of the Federal Power Act and Request for Waivers of Certain Filing Requirements of Pennsylvania Electric Company, et al.

Filed Date: 6/19/15.

Accession Number: 20150619-5129.

Comments Due: 5 p.m. ET 7/10/15.

Take notice that the Commission received the following electric rate filings:

Docket Numbers: ER15-1345-001.

Applicants: Midcontinent Independent System Operator, Inc., South Mississippi Electric Power Association.

Description: Compliance filing: 2015-06-19_SMEPA RTO Adder Compliance Filing to be effective 6/1/2015.

Filed Date: 6/19/15.

Accession Number: 20150619-5068.

Comments Due: 5 p.m. ET 7/10/15.

Docket Numbers: ER15-1657-001.

Applicants: SEPG Energy Marketing Services, LLC.

Description: Tariff Amendment: Supplement to MBR Application to be effective 7/6/2015.

Filed Date: 6/19/15.

Accession Number: 20150619-5060.

Comments Due: 5 p.m. ET 7/10/15.

Docket Numbers: ER15-1714-000.

Applicants: Targray Americas Inc.

Description: Supplement to May 14, 2015 Targray Americas Inc. tariff filing.

Filed Date: 6/19/15.

Accession Number: 20150619-5128.

Comments Due: 5 p.m. ET 7/10/15.

Docket Numbers: ER15-1952-000.

Applicants: Pavant Solar LLC.

Description: Baseline eTariff Filing: Initial Baseline—Pavant Solar LLC to be effective 8/1/2015.

Filed Date: 6/19/15.

Accession Number: 20150619-5087.

Comments Due: 5 p.m. ET 7/10/15.

Docket Numbers: ER15-1953-000.

Applicants: Tucson Electric Power Company.

Description: § 205(d) Rate Filing: Certificates of Concurrence to be effective 9/1/2011.

Filed Date: 6/19/15.

Accession Number: 20150619-5167.

Comments Due: 5 p.m. ET 7/10/15.

Take notice that the Commission received the following electric securities filings:

Docket Numbers: ES15-35-000.

Applicants: Kingsport Power Company.

Description: Application under Section 204 of the Federal Power Act for Authorization to Issue Securities of Kingsport Power Company.

Filed Date: 6/19/15.

Accession Number: 20150619-5165.

Comments Due: 5 p.m. ET 7/10/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2015.
Kimberly D. Bose,
Secretary.

[FR Doc. 2015-15648 Filed 6-25-15; 8:45 am]

BILLING CODE 6717-01P